DEPARTMENT OF AGRICULTURE

Commodity Credit Corporation

Agricultural Water Enhancement Program

AGENCY: Commodity Credit Corporation and Natural Resources Conservation Service, Department of Agriculture.

ACTION: Notice of request for proposals.

SUMMARY: Section 2510 of the Food, Conservation, and Energy Act of 2008 (2008 Act) established the Agricultural Water Enhancement Program (AWEP) by amending section 1240I of the Food Security Act of 1985. The Secretary of Agriculture delegated the authority for AWEP to the Chief of the Natural Resources Conservation Service (NRCS), who is Vice President of the Commodity Credit Corporation (CCC). NRCS is an agency of the Department of Agriculture (USDA). Effective upon publication of this notice, NRCS announces the availability of approximately $20.7 million in AWEP financial assistance during fiscal year (FY) 2010 to support new AWEP projects. The AWEP is a voluntary conservation initiative that provides financial and technical assistance to agricultural producers to implement agricultural water enhancement activities on agricultural land for the purposes of conserving surface and ground water and improving water quality. As part of the Environmental Quality Incentives Program (EQIP), AWEP operates through program contracts with producers to plan and implement conservation practices in project areas established through partnership agreements. The purpose of this notice is to inform agricultural producers of the potential availability of program funds and to solicit proposals from potential partners seeking partnership agreements with the Chief to promote the conservation of ground and surface water and the improvement of water quality. This is not a grant program to partners, and all Federal funding offered through this authority will be paid directly to agricultural producers through individual contract agreements.

DATES: Effective Date: The notice of request is effective April 2, 2010.

Eligible partners may submit proposals by mail or via courier.

• By mail: proposals must be postmarked May 17, 2010.

• By courier: proposals must be delivered May 17, 2010.

ADDRESSES: Written proposals should be submitted to the addresses identified below, with copies to the appropriate NRCS State Conservationist whose names and addresses are identified as an attachment to this notice. If a project is multi-State in scope, potential partners must send each State Conservationist in the proposed project areas the proposal for review.

• By mail: Gregory K. Johnson, Director, Financial Assistance Programs Division, Department of Agriculture, Natural Resources Conservation Service, “AWEP Proposal,” 1400 Independence Avenue, SW., Room 5239 South Building, Washington, DC 20250. (Note: Registered or Certified Mail to a Post Office will not be accepted.)

• By courier: Gregory K. Johnson, Director, Financial Assistance Programs Division, Department of Agriculture, Natural Resources Conservation Service, “AWEP Proposal,” 1400 Independence Avenue, SW., Room 5239 South Building, Washington, DC 20250, Telephone: (202) 720-1845. Proposals will be accepted between 9 a.m. and 4 p.m., Monday through Friday, except Federal Holidays. Please ask the guard at the entrance to the South Building to call (202) 720-1845.

Note: Proposals submitted via fax, e-mail, or after the deadline date listed in this notice will not be considered.

FOR FURTHER INFORMATION CONTACT: Gregory K. Johnson, Director, Financial Assistance Programs Division, Department of Agriculture, Natural Resources Conservation Service, 1400 Independence Avenue, SW., Room 5239 South Building, Washington, DC 20250, Telephone: (202) 720-1845; Fax: (202) 720-4265; or E-mail: AWEP@wdc.usda.gov. Additional information regarding AWEP is available at the following NRCS Web page: http://www.nrcs.usda.gov/programs/AWEP/.

Persons with disabilities who require alternative means for communication (Braille, large print, audio tape, etc.) should contact the USDA TARGET Center at: (202) 720-2600 (voice and TDD).

SUPPLEMENTARY INFORMATION: This notice includes significant additions from the 2009 notice issued last fiscal year. The basic authority, procedures, and program requirements have not changed. Partners who responded to the 2009 notice reported difficulty in understanding where and how to apply, confusion about administration and purpose of the new AWEP authority and requirements of partners, misunderstanding that AWEP was not a grant program for partners, lack of knowledge about NRCS resource concerns and conservation practices that needed to be addressed through the partnership, frustration in NRCS terminology used in the notices, and other similar concerns. As the result of these concerns, the agency conducted an internal examination of AWEP to better clarify the program and requirements for proposal submission. In addition to the internal review, the agency also invited suggestions from legislators, producers, and other organizations with an interest in AWEP. As a result of the review, this notice includes more explanation of the program, added definitions, clarification of the requirements and criteria to be addressed in the proposal, links to resources to help partners apply, and other general improvements. The requirements for submission of the proposal are not significantly different from 2009, and pose no additional burden or workload.

Availability of Funding

Effective upon publication of this notice, NRCS announces the availability of approximately $20.7 million in AWEP financial assistance during FY 2010 to support new AWEP projects. NRCS will implement AWEP by entering into partnership agreements with eligible entities to conserve ground and surface water or improve water quality, or both, through a regional approach. Eligible partners must submit complete proposals, as described in this notice, to Gregory K. Johnson, Director, Financial Assistance Programs Division. Proposals are submitted by eligible partners, and project evaluation will be based upon a competitive process and the criteria established in this notice. Once the Chief approves a partner's proposal and announces selection, agricultural producers within the project area may submit an AWEP application directly to their local NRCS office. Only specific kinds of entities are eligible to submit a proposal and enter into partnership agreements with NRCS; these include federally recognized Indian tribes, State and local units of government, agricultural or silvicultural associations, and other groups of producers such as an irrigation association, agricultural land trust, or other nongovernmental organization that has experience working with agricultural producers. Nongovernmental organizations are entities as defined by the Internal Revenue Service and as cited in the definitions section of this notice. This is not a grant program, and all Federal funds made available through this request for proposals will be paid directly to producers through program contract agreements. Individual agricultural producers are not AWEP eligible entities and may not submit AWEP proposals, nor may they apply for program benefits through this proposal submission process; however, once an AWEP project area has been approved and announced, individual producers may apply for program benefits through their local NRCS office. No Federal AWEP funding may be used to cover administrative expenses of partners. Administrative activities include any indirect or direct costs relating to submitting or implementing the project proposal.

Definitions

Activities means conservation systems, practices, or management measures needed to address a resource concern or improve environmental quality through the treatment of natural resources, and includes structural, vegetative, and management practices, as well as the activity for development of conservation plans, as determined by NRCS. Activities may also include actions associated with an agricultural operation or other activities conducted by an AWEP partner which may or may not be associated with an NRCS conservation practice or program support.

Agricultural land means cropland, grassland, rangeland, pasture, and other agricultural land on which agricultural and forest-related products or livestock are produced and resource concerns may be addressed. Other agricultural lands may include cropped woodland, marshes, incidental areas included in the agricultural operation, and other types of agricultural land used for production of livestock.

Agricultural water enhancement activity means the following, conducted in accordance with State water law:

(a) Water quality or water conservation plan development, including resource condition assessment and modeling;

(b) Water conservation restoration or enhancement projects, including the conversion to the production of less water-intensive agricultural commodities or dryland farming;

(c) Water quality or quantity restoration or enhancement projects;

(d) Irrigation system improvement and irrigation efficiency enhancements;

(e) Activities designed to mitigate the effects of drought, (e.g., construction, improvement, or maintenance of irrigation ponds, small on-farm reservoirs, or other agricultural water impoundment structures that are designed to capture surface water runoff); and

(f) Related activities that the Chief determines will help achieve water quality or water conservation benefits on agricultural land.

Note: Not all listed activities are currently supported by NRCS practice standards or funded through NRCS programs.

Applicant means a person, legal entity, joint operation, or tribe that has an interest in an agricultural or forestry operation, as defined in 7 CFR part 1400, who has requested to participate in AWEP.

Beginning Farmer or Rancher means a person or legal entity who:

(a) Has not operated a farm or ranch, or who has operated a farm or ranch for not more than 10 consecutive years. This requirement applies to all members of an entity who will materially and substantially participate in the operation of the farm or ranch.

(b) In the case of a contract with an individual, individually, or with the immediate family, material and substantial participation requires that the individual provide substantial day-to-day labor and management of the farm or ranch consistent with the practices in the county or State where the farm is located.

(c) In the case of a contract with an entity or joint operation, all members must materially and substantially participate in the operation of the farm or ranch. Material and substantial participation requires that each of the members provide some amount of the management or labor and management necessary for day-to-day activities, such that if each of the members did not provide these inputs, operation of the farm or ranch would be seriously impaired.

Chief means Chief of the Natural Resources Conservation Service, or designee.

Conservation Activity Plan means a resource-specific conservation plan prepared by a certified Technical Service Provider (TSP) as authorized by the 2008 Act for financial assistance payment through EQIP for eligible land of the producer.

Conservation planning means using the planning process outlined in the NRCS National Planning Procedures Handbook (NPPH). The NPPH is available at: http://directives.sc.egov.usda.gov/.

Conservation practice means one or more conservation improvements and planning activities, including structural practices, land management practices, vegetative practices, forest management practices, and other improvements that are planned and applied according to standards and specifications contained in the NRCS Field Office Technical Guide (FOTG). Conservation practices and activities funded through AWEP are subject to requirements of EQIP regulation (7 CFR 1466.10) (http://www.nrcs.usda.gov/programs/eqip). Only EQIP may provide financial assistance for support of the activity of conservation planning.

Conservation system means a combination of conservation practices and management measures used to address natural resource and environmental concerns in a comprehensive, holistic, and integrated manner.

Contract as defined in the EQIP regulation means a legal document that specifies the rights and obligations of any participant accepted to participate in the AWEP program. An AWEP contract is a binding agreement for the transfer of assistance from the Department of Agriculture (USDA) to the participant to share in the costs of applying conservation practices. Contracts funded through AWEP are subject to requirements of EQIP regulation (7 CFR 1466.21) (http://www.nrcs.usda.gov/programs/eqip).

Designated Conservationist means an NRCS employee whom the State Conservationist has designated as responsible for administration of NRCS programs at the local level.

Environmental Quality Incentives Program means a program administered by NRCS in accordance with 7 CFR part 1466 (http://www.nrcs.usda.gov/programs/eqip), which provides technical and financial assistance to eligible producers for the installation and implementation of conservation practices and activities on private agricultural and nonindustrial forest land.

Exceptional Drought (D-4) means, as defined by the National Oceanic and Atmospheric Administration, exceptional widespread crop/pasture losses; exceptional fire risk; and shortages of water in reservoirs, streams, and wells creating water emergencies.

Field Office Technical Guide means the official local NRCS source of resource information, conservation practice standards, specifications, and interpretation of guidelines, criteria, and requirements for planning and applying conservation practices, activities, and conservation management systems. It contains natural resource quality criteria to be achieved to provide for the conservation and sustainability of soil, water, air, plant, and animal resources applicable to the geographic area where resource concerns are addressed. The FOTG can be accessed online at: http://www.nrcs.usda.gov/technical/efotg/.

Financial Assistance means a payment made to the program participant.

Forest management plan means a site-specific plan that is prepared by a professional resource manager, in consultation with the participant, and is approved by the State Conservationist. Forest management plans may include a forest stewardship plan, as specified in section 5 of the Cooperative Forestry Assistance Act of 1978 (16 U.S.C. 2103a); another practice plan approved by the State Forester; or another plan determined appropriate by the State Conservationist. The plan must comply with Federal, State, tribal, and local laws, regulations, and permit requirements.

Indian land is an inclusive term describing all lands held in trust by the United States for individual Indians or tribes, or all lands, titles to which are held by individual Indians or tribes, subject to Federal restrictions against alienation or encumbrance, or all lands that are subject to the rights of use, occupancy, or benefit of certain tribes. For purposes of this notice, the term Indian land also includes land for which the title is held in fee status by Indian tribes and the United States Government owned land under the Bureau of Indian Affairs jurisdiction.

Indian tribe means any Indian tribe, band, nation, or other organized group or community, including any Alaska Native village or regional or village corporation as defined in or established pursuant to the Alaska Native Claims Settlement Act (43 U.S.C. 1601 et seq.) that is federally recognized as eligible for the special programs and services provided by the United States to Indians because of their status as Indians.

Joint Agreement means a business arrangement where two or more participants cooperate to carry out conservation practices that can best be accomplished by combining resources. Such agreements must be formally documented and signed by all applicable parties.

Joint Operation means a general partnership, joint venture, or other similar business arrangement in which the members are jointly and severally liable for the obligations of the organization.

Limited Resource Farmer or Rancher means:

(a) A person with direct or indirect gross farm sales not more than $155,200 in each of the previous 2 years (adjusted for inflation using Prices Paid by Farmer Index as compiled by the National Agricultural Statistical Service); and

(b) Has a total household income at or below the national poverty level for a family of four, or less than 50 percent of county median household income in each of the previous 2 years (to be determined annually using Department of Commerce data).

Local working group means the advisory body pursuant to 16 U.S.C. 3861 and described in 7 CFR part 610. Information regarding these groups can be found at: http://www.nrcs.usda.gov/programs/StateTech/.

Nongovernmental organization is any legal entity that is organized for, and at all times since, the formation of the organization has been operated principally for one or more of the conservation purposes specified in clause (i), (ii), (iii), or (iv) of section 170(h)(4)(A) of the Internal Revenue Code of 1986; is an organization described in section 501(c)(3) or that is described in section 509(a)(2) of that Code; or is described in section 509(a)(3) of that Code and is controlled by an organization described in section 509(a)(2) of that Code.

Nonindustrial private forest land means rural land, as determined by the Secretary, that has existing tree cover or is suitable for growing trees and is owned by any nonindustrial private individual, group, association, corporation, Indian tribe, or other private legal entity that has definitive decisionmaking authority over the land.

Participant means a person, legal entity, joint operation, or tribe that is receiving payment or is responsible for implementing the terms and conditions of an EQIP contract.

Partner means an entity that enters into a partnership agreement with NRCS to carry out the approved AWEP project. Eligible partners include federally recognized Indian tribes, State and local units of government, agricultural or silvicultural associations, or other such groups of agricultural producers. Note: Individual agricultural producers are not partners under provisions of AWEP and are not eligible to submit proposals as outlined in this notice.

Partner applicant means an eligible entity that enters into a partnership agreement with NRCS to carry out the approved AWEP project.

Partnership agreement means a multi-year agreement between NRCS and the partner. The AWEP partnership agreement describes the activities and resources, such as technical or financial assistance, that may be provided by NRCS and the partner to help producers meet the objectives of AWEP in an approved project area. The AWEP partnership agreement does not transfer financial or technical assistance funding to a partner, nor provide for the administrative expenses of the partner. Individual producers may not enter into partnership agreements under AWEP authority.

Payment means financial assistance provided to a contract participant under the terms of the program contract. The payment is based upon the estimated costs incurred for performing or implementing conservation practices and activities, including costs for planning, materials, equipment, labor, design and installation, maintenance, management, or training, as well as the estimated income foregone by the producer for designated conservation practices. AWEP payments are only made to eligible agricultural producers through program contracts. Payments and payment rates are established by program rule. Payments are only provided to assist with implementation of approved conservation practices and activities listed in the FOTG and must meet other requirements of EQIP regulation (7 CFR 1466.23-24) (http://www.nrcs.usda.gov/programs/eqip).

Priority resource concern means a resource concern that is identified by the State Conservationist, with advice from the State Technical Committee and local work groups, as a priority for a State or the specific geographic areas within a State.

Producer means a person, legal entity, or joint operation who has an interest in the agricultural operation, according to 7 CFR part 1400, or who is engaged in agricultural production or forestry management.

Projects of Special Environmental Significance means projects, as defined in 7 CFR 1466(d) and approved by the Chief, which meet the following criteria:

(a) Site-specific evaluations have been completed, documenting that the project will have substantial positive impacts on critical resources in or near the project area (e.g., impaired water bodies or at-risk species);

(b) The project clearly addresses a national priority and State, tribal, or local priorities, as applicable; and

(c) The project assists the participant in complying with Federal, State, and local regulatory requirements.

Rangeland means land on which the historic climax plant community is predominantly grasses, grass-like plants, forbs, or shrubs, and includes lands revegetated naturally or artificially when routine management of that vegetation is accomplished mainly through manipulation of grazing. Rangelands include natural grasslands, savannas, shrublands, most deserts, tundra, alpine communities, coastal marshes, and wet meadows.

Resource concern means a specific natural resource problem that represents a significant concern in a State or region, and is likely to be addressed successfully through the implementation of conservation activities by producers. The two natural resource concerns that may be addressed through AWEP are water conservation or water quality and include the following sub categories:

Water Quantity (Water Conservation):

• Aquifer Overdraft

• Excessive Runoff, Flooding, or Ponding

• Excessive Seepage

• Excessive Subsurface Water

• Inadequate Outlets

• Inefficient Water Use on Irrigated Land

• Inefficient Water Use on Nonirrigated Land

• Insufficient Flows in Water Courses

• Rangeland Hydrologic Cycle

• Reduced Capacity of Conveyances by Sediment Deposition

• Reduced Storage of Water Bodies by Sediment Accumulation

Water Quality:

• Excessive Nutrients and Organics in Groundwater

• Excessive Nutrients and Organics in Surface Water

• Excessive Salinity in Groundwater

• Excessive Salinity in Surface Water

• Excessive Suspended Sediment and Turbidity in Surface Water

• Harmful Levels of Pathogens in Groundwater

• Harmful Levels of Pathogens in Surface Water

• Harmful Levels of Pesticides in Groundwater

• Harmful Levels of Pesticides in Surface Water

• Harmful Temperatures of Surface Water

Resource concerns used by NRCS are found in section III of each State or local FOTG which can be found at: http://www.nrcs.usda.gov/technical/efotg/.

Socially Disadvantaged Farmer or Rancher means a farmer or rancher who has been subjected to racial or ethnic prejudices because of their identity as a member of a group without regard to their individual qualities. Those groups include African Americans, American Indians or Alaskan natives, Hispanics, Asians, and native Hawaiians or other Pacific Islanders.

State Conservationist means the NRCS employee who is authorized to implement conservation programs administered by NRCS, and who directs and supervises NRCS activities in a State, the Caribbean Area, or the Pacific Islands Area.

State Technical Committee means a committee established by the USDA Secretary in a State pursuant to 16 U.S.C. 3861 and described in 7 CFR part 610. Information regarding these committees can be found at: http://www.nrcs.usda.gov/programs/StateTech/.

Technical assistance means technical expertise, information, and tools necessary for the conservation of natural resources on land active in agricultural, forestry, or related uses. The term includes the following: (1) Technical services provided directly to farmers, ranchers, and other eligible entities, such as conservation planning, technical consultation, and assistance with the design and implementation of conservation practices; and (2) technical infrastructure including activities, processes, tools, and agency functions needed to support delivery of technical services, such as technical standards, resource inventories, training, data, technology, monitoring, and effects analyses. Information regarding technical assistance can be found at: http://www.nrcs.usda.gov/programs/cta/.

Technical Service Provider means an individual, private-sector entity, or public agency certified by NRCS, in accordance with 7 CFR part 652, to provide technical services to program participants in lieu of or on behalf of NRCS. Information regarding TSP services available through AWEP is found in the EQIP regulation (7 CFR 1466.11) (http://www.nrcs.usda.gov/programs/eqip).

Overview of the Agricultural Water Enhancement Program

Background

The AWEP is a voluntary conservation program that provides financial and technical assistance to agricultural producers to implement agricultural water enhancement activities using conservation practices on eligible land for the purposes of conserving surface and ground water and improving water quality. As part of EQIP, AWEP operates through contracts with eligible producers to plan and implement approved conservation practices and activities to conserve ground and surface water and improve water quality in project areas established through partnership agreements. Producers located in approved AWEP project areas, announced by partners and NRCS, may submit an application for program assistance at their local NRCS service center or field office. As part of the partnership agreement, approved partners may also help facilitate the submission of producers' applications, or they may provide additional technical or financial assistance to participating agricultural producers, or provide other resources as defined in the agreement. A primary intent of AWEP is to leverage other non-Federal resources along with NRCS program resources to achieve program objectives. Partners are encouraged to include in their proposals resources to help producers implement approved conservation practices and activities and provisions to address those AWEP priority activities that NRCS does not have the authority to implement (e.g. resource condition assessment and modeling). The partner is not required to provide financial or technical resources towards the project (match); however, proposals that include or offer partner provided resources will be given higher priority consideration in the evaluation process. AWEP financial assistance is delivered directly to producers in approved project areas through contract agreements. No technical or financial assistance funding may be provided to a partner through the AWEP partner agreement. However, if requested by a partner, the State Conservationist or Chief may consider development of a separate funding agreement with a qualified partner for delivery of technical services to producers participating in an approved AWEP project.

Submitting Proposals

Potential partners must submit a complete proposal to Gregory K. Johnson, Director, Financial Assistance Programs Division, addressing all questions and items listed in the “Proposal Requirements” section of this notice. The proposal must include sufficient detail to allow NRCS to understand the partner's priority resource concerns, objectives, and expected outcomes. Incomplete proposals and those that do not meet the requirements set forth in this notice will not be considered, and notification of elimination will be mailed to the applicant. The proposal must also be accompanied by letters of review from the appropriate State Conservationists to the Director, Financial Assistance Programs Division as specified in this notice. The Chief or designee will review, prioritize, and evaluate the proposals based on the criteria provided in this notice. State Conservationists will provide guidance to potential partners regarding resource concerns that may be addressed in the proposed project area, local working group and State Technical Committee natural resource priorities, approved conservation practices and activities, and other program requirements the partner should consider when developing a proposal.

Partner Entity Eligibility

Potential partner entities that are eligible to participate as partners include federally recognized Indian tribes, States and local units of government, agricultural or silvicultural associations, or other groups of producers, such as an irrigation association, agricultural land trust, or other nongovernmental organization that has experience working with agricultural producers. Individual producers are not eligible to submit proposals under this notice.

Producer Eligibility

Individual producers are eligible to apply for program benefits as part of an approved AWEP project as determined by the requirements of this notice and EQIP regulation found in 7 CFR 1466.8 (http://www.nrcs.usda.gov/programs/eqip). Producers seeking to participate in an approved AWEP project must meet all EQIP program eligibility requirements.

Producer Applications and Contracts

Agricultural producers in approved project areas may apply for available AWEP funds at their local USDA service center or NRCS field office (http://offices.sc.egov.usda.gov/locator/app?agency=nrcs). Once an application is selected, an eligible agricultural producer will enter into a contract with NRCS to implement approved conservation practices that address the water conservation and water quality resource concerns identified in the partnership proposal and agreement. Through these contracts, NRCS provides payments to agricultural producers for implementing conservation practices that meet the agricultural water enhancement activities and goals of the project. The term of the contract agreement with a producer will be for a minimum duration of one year after completion of the last practice, but not more than 10 years.

In States with water quantity concerns, where the partner proposal includes conservation management practices that assist producers with the conversion of agricultural land from irrigated farming to dryland farming, NRCS may enter into contracts that provide a producer payments for applicable practices for up to 5 years as needed to complete the conversion when the conversion activity is consistent with State law. Conversion activities are supported through AWEP by implementation of approved conservation practices.

An agricultural producer may elect to use a TSP for technical assistance associated with conservation planning or practice design and implementation. A participant may not receive payments that exceed an aggregate of $300,000, directly or indirectly, for all EQIP and AWEP contracts, including prior year contracts entered into during any 6-year period. The Chief may waive this limitation allowing up to $450,000 for projects of special environmental significance as defined in this notice and EQIP regulation in section § 1466.21(d). All agricultural producers receiving assistance through AWEP must meet EQIP program eligibility requirements and will be subject to EQIP payment limitations and other requirements. Producers applying for AWEP are not required to have an existing EQIP contract. However, they must be determined eligible for EQIP assistance prior to entering into an AWEP contract. Information about limitations and benefits that apply to land and agricultural producers enrolled in the AWEP program are found in the EQIP authorizing legislation (16 U.S.C. 3839aa) and regulation (7 CFR part 1466) (http://www.nrcs.usda.gov/programs/eqip).

Land Eligibility

The following land is eligible for enrollment in the AWEP through program contracts with producers:

• Private agricultural land.

• Indian land.

• Publicly owned land where:

○ The conservation practices to be implemented on the public land are necessary and will contribute to an improvement in the identified resource concern;

○ The land is a working component of the participant's agricultural or forestry operation; and

○ The participant has control of the land for the term of the contract.

For producer contracts that address water conservation and irrigation related conservation practices, EQIP regulation requires that land must be irrigated 2 of the previous 5 years prior to application for assistance (7 CFR 1466.10(d)). AWEP projects that include agricultural lands not irrigated for 2 of the previous 5 years, the construction, improvement, or maintenance of irrigation ponds, small on-farm reservoirs, or other agricultural water impoundment structures that are designed to capture surface water runoff, are eligible only in an area that is experiencing or has experienced exceptional drought conditions between June 18, 2006, and June 18, 2008. A list of States and counties that are designated exceptional drought areas is found on the AWEP Web site at: http://www.nrcs.usda.gov/programs/awep/.

Additional information regarding land eligibility to meet EQIP requirements are found in 7 CFR 1466.8 and available at: http://www.nrcs.usda.gov/programs/eqip.

Proposal Requirements

For consideration of a proposal, a potential partner must submit five copies of the written proposal and one electronic copy for single-State or multi-State projects that do not exceed 5 years in length. The proposal must be in the following format and contain the information set forth below:

Proposal Format: Five copies of the proposal should be typewritten or printed on 8½″ × 11″ white paper. The text of the application should be in a font no smaller than 12-point, with one-inch margins. One additional copy of the proposal must be in a format such as Microsoft Word or PDF on one CD ROM. If submitting more than one proposal, submit a separate proposal for each project. Consult the NRCS national AWEP Web site for an example of an acceptable AWEP proposal document at: http://www.nrcs.usda.gov/programs/awep/. The entire proposal may not exceed 12 pages in length including summary, maps, reference materials, and related reports.

Proposal Summary

The basic format for the AWEP proposal is a narrative written response to the questions and information requested in this notice. There are no forms required or associated with the proposal submission process; however, the proposal must include the following:

(1) Proposal Cover Sheet and Summary: The first two pages of the proposal summary must include:

(a) Project Title.

(b) Project director/manager name, telephone number, and e-mail address.

(c) Name of lead partner entity submitting proposal and other collaborating partners.

(d) Mailing address and phone numbers for lead partner submitting proposal.

(e) Short general description/summary of project; describe whether proposal will address water conservation resource issues, water quality resource issues, or both. Identify the specific natural resource concerns to be addressed, and describe the approved FOTG conservation practices and activities that will be used to address those resource concerns, including practices that will be used to help producers in the conversion of irrigated farming to dryland farming.

(f) Specify the geographic location: State(s), County(s), congressional district(s), and whether proposal is a multi-State proposal or within-State proposal. Include a general location map that shows if the location of the project area is within an AWEP national priority area, which are:

• Eastern Snake Plains Aquifer.

• Everglades.

• Ogallala Aquifer.

• Puget Sound.

• Sacramento River Basin.

• Red River.

• Upper Mississippi River Basin.

Additional information, maps, and a list of States and counties located in AWEP priority areas can be found at: http://www.nrcs.usda.gov/programs/awep/.

(g) Proposed project start and end dates (not to exceed a period of 5 years).

(h) Total amount of AWEP financial assistance being requested for entire project.

(2) Project Natural Resource Objectives and Actions:

The proposal must include project objectives that address water quality or water quantity resource concerns.

(a) Identify and provide detail about the natural resource concern(s) to be addressed and how the proposals objectives will address those concerns. Objectives should be specific, measurable, achievable, results-oriented, and include a timeline for completion.

(b) For each objective, identify the actions to be completed to achieve the objective and to address the identified natural resource concern using AWEP assistance or the actions being addressed using alternate non-Federal resources or fund sources.

(c) Identify the total number of acres that need conservation treatment along with the kinds of conservation practices and activities needed to treat priority resource concerns in the project area. Identify specific priorities within the project area that need to be addressed first.

(d) The proposed agricultural water enhancement activities that may be implemented through partner efforts alone and those to be implemented using AWEP financial support.

(3) Partnership Capacity:

Potential partners must fully describe their project and demonstrate their history of working with agricultural producers to address water quality and quantity issues. Information provided in the proposal must:

(a) Demonstrate the commitment and experience of the partner to accomplish the long-term conservation of surface and ground water or water quality improvement and related historical activities that show this experience.

(b) Demonstrate the ability and history of the partner to coordinate water quality and quantity efforts among agricultural producers.

(c) Demonstrate the availability of non-Federal matching funds or other resources being contributed. A primary intent of AWEP is to leverage other non-Federal resources along with NRCS program resources to achieve program objectives. The partner is not required to provide financial or technical resources towards the project (match); however, proposals that include or offer partner provided resources will be given higher priority through the evaluation process. The partner needs to clearly state, by project objective, how they intend to leverage Federal funds along with partner resources to address water quantity or water quality resource issues. Note: The funding and time contribution by agricultural producers to implement agreed-to conservation practices in program contracts may not be considered any part of a match from the potential partner for purposes of AWEP. One purpose of AWEP is to leverage new resources from partners above and beyond those contributions made by individual producers.

(d) Demonstrate the ability to monitor and evaluate project effects on natural resources. Priority will be given to projects where the partner can provide resources, services, or conduct activities to monitor and evaluate effects of conservation practices and activities implemented through the project.

(e) Provide evidence the partner has the capacity to deliver a final project performance report. If a proposal is approved, the partnership agreement will provide additional details and requirements for reporting performance of the project effort.

(f) Identify potential criteria to be used by NRCS to prioritize and rank agricultural producers' AWEP applications in the project area. Potential partners should collaborate with NRCS in the State where the project is proposed to develop meaningful criteria that NRCS can use to evaluate and rank producer program applications. For approved projects, this joint effort will help NRCS select producer applications which will best accomplish the projects intended conservation goals and address priority resource issues identified by the partner in the proposal. Additional information regarding the process NRCS uses to evaluate and rank individual producer applications is found in EQIP regulation 7 CFR 1466.20. Proposals which include specific ranking criteria developed in collaboration with NRCS may receive higher consideration in the evaluation process. Additional guidance and assistance to develop appropriate criteria may be obtained from the State office where the project will be located.

(g) A description of how the partners and entities will collaborate to achieve the project objectives and the roles, responsibilities, and capabilities of each partner. Proposals that include resources from other than the submitter must include a letter or other documentation from the other partner confirming this commitment of resources. Proposals that demonstrate efforts to collaborate with other partners and producers are likely to provide increased environmental benefits, meet the objectives of AWEP, and may receive higher ranking consideration in the evaluation process.

(h) A description of the proposed agricultural water enhancement activities and approved NRCS conservation practices and activities to be applied within the designated 5-year timeframe allowed for AWEP projects and the general sequence of implementation of the project. Enhancement activities include efforts undertaken by the partner and those that the partner requests NRCS to address through financial support to implement eligible approved conservation practices and activities. In this section, list all the NRCS conservation practices the partner wishes NRCS to offer to producers through the AWEP project. Information about NRCS practices can be found in the FOTG at: http://www.nrcs.usda.gov/technical/efotg/ and descriptions of practices at: http://www.nrcs.usda.gov/technical/standards/. For each conservation practice, estimate the extent (feet, acres, number, etc.) the partner expects producers to implement each fiscal year during the life of the project and the amount of financial assistance requested to support implementation of each practice through producer contracts. Provide detail if the project will address regulatory compliance and any other outcomes the partner expects to complete during the project period.

(i) A description of the resources (financial or technical assistance) requested annually from AWEP for producer contracts and the non-Federal resources provided by the partner that will be leveraged by the Federal contribution. From the estimated amount of financial assistance needed to implement the conservation practices identified in the previous section, include the total amount of financial assistance funds requested for each fiscal year of the project to be made available for producer contracts. If resources other than funding are being offered by the partner, describe the kind of resources and services that will be made available to producers to help implement conservation practices and activities. Note: The funding and time contribution by agricultural producers to implement agreed-to conservation practices in the program contracts may not be considered as part of a match from the potential partner. All funding requests and information regarding partner resources may be included in the form of a budget narrative. If financial assistance is approved and available, these funds must be obligated in individual producer contracts that may be from 2 to 10 years in length.

(4) Lands to be Treated:

The proposal should describe the geographic area to be covered by the partnership agreement. Specifically, the proposal should include:

(a) A map showing the proposed project area. Describe the location and size of the proposed project area. Are the size and scope of the project area and proposed practices to address resource concerns reasonable and achievable? What kinds of agricultural operations are in the project area? Is the project located in a water conservation priority area or include any Indian land?

(b) A description of the agricultural water quality or water conservation issues to be addressed by the partnership agreement. Provide information about the extent and kinds of water quality issues to be addressed such as pollutants, designated priority areas, groundwater overdraft, surface water deficiencies, etc.

(c) A description of the agricultural water enhancement objectives to be achieved through the partnership and the NRCS practices expected to be implemented. What are the primary objectives to be accomplished in the project by the partner and expected environmental improvements from producer implementation of AWEP funded conservation practices and activities? How will progress toward achieving environmental benefits be measured? What kinds of water conservation plans, assessments, or modeling will be done to help achieve project objectives or encourage practice implementation? Will the project include specific efforts to encourage producers to convert irrigated land to less water-intensive operations or dryland farming? What percentage of the project area is expected to be converted to dryland farming? Will the proposal restore or enhance water quantity or quality in the project area or reduce the impacts of drought? What kinds of irrigation system improvements will be implemented? Will the planned activities significantly solve or improve the resource issues being addressed? Describe any activities that are innovative or include outcome-based performance measures implemented by the partner.

(d) Include the total acres that need conservation treatment and the priority conservation practices and activities that are needed to treat significant resource concerns in the project area. Identify specific priorities within the project area that need to be addressed first.

(5) Producer Information:

The partner must identify in the proposal:

An estimate of the number of eligible agricultural producers the partner expects to participate in the project compared with the estimated total number of producers in the project area (estimate the percentage of participation). Producer participation is a requirement for delivery of AWEP program benefits. How will the partner encourage participation to guarantee success of the project? Does the project include socially disadvantaged farmers or ranchers, beginning farmers or ranchers, limited resource farmers or ranchers, or Indian tribes? Are there groups of producers who may submit joint program applications to address resource issues of common interest and need?

(6) Proposal Implementation Plan and Schedule:

Potential partners must submit project action plans and schedules, not to exceed 5 years, detailing activities, including timeframes related to project milestones and monitoring and evaluation activities that will likely be documented in the partnership agreement. A project action plan should describe how often the potential partner plans to monitor and evaluate the project and how it plans to quantify the results or performance of the project for the final project performance report. Indicate the practices the partner expects to implement during the project timeframe and general sequence of implementation.

(7) Letter of Review:

Potential partners must include a copy of the letter showing that the written proposal was sent to the appropriate State Conservationist(s). If a project is multi-State in scope, all State Conservationists in the proposed project area must be sent the proposal for review. The State Conservationist(s) will review the proposal to address:

(a) Potential duplication of efforts with other projects or existing programs.

(b) Adherence to, and consistency with, overall EQIP regulation including requirements related to land and producer eligibility and use of approved NRCS resource concerns and conservation practices and other program requirements.

(c) Expected benefits for project implementation in their State(s).

(d) Other issues or concerns the State Conservationist is aware of that should be considered by the Chief.

(e) A general recommendation for support or denial of project approval.

State Conservationist(s) must submit letters of review to Gregory K. Johnson, Director, Financial Assistance Programs Division no later than 10 calendar days after the deadline for proposal submission. A list of NRCS State Conservationists, addresses, and phone numbers is included as an attachment at the end of this notice. Prior to submission of the proposal, potential partners are strongly encouraged to consult with the appropriate State Conservationist(s) during proposal development to obtain guidance as to appropriate resource concerns to address needed water quality or water conservation enhancements, needed conservation practices and activities, and other details of the project proposal. All AWEP proposals become the property of NRCS for use in the administration of the program, may be filed or disposed of by the agency, and will not be returned to the potential partner. Once proposals have been submitted to the agency for review and ranking, there will be no further opportunity to change or re-submit the proposal document.

Acknowledgement of Submission and Notifications

Partners whose proposals have been selected will receive a letter of official notification. Upon notification of selection, the partner should contact the State Conservationist listed in the letter to develop the required partnership agreement and other project implementation requirements. Potential partners should note that depending upon available funding, NRCS may offer a reduced amount of program financial assistance from what was requested in the proposal. Partner submissions of proposals that were not selected will be notified by official letter.

Withdrawal of Proposals

Partner proposals may be withdrawn by written notice to the Director, Financial Assistance Programs Division at any time prior to selection.

Ranking Considerations

The Chief or designee will evaluate the proposals using a competitive process. Higher priority may be given to proposals that:

(a) Include high percentages of agricultural land and producers in a region or other appropriate area;

(b) Result in high levels of applied agricultural water quality and water conservation activities;

(c) Significantly enhance agricultural activity;

(d) Allow for monitoring and evaluation by the partner;

(e) Assist agricultural producers in meeting a regulatory requirement that reduces the economic scope of the producer's operation; and

(f) Achieve the project's land and water treatment objectives within 5 years or less.

For proposals from States with water quantity concerns, the Chief will give higher priority to projects from States where the proposal will:

(a) Include conservation practices that support the conversion of agricultural land from irrigated farming to dryland farming;

(b) Leverage Federal funds provided under the program with funds provided by partners; and

(c) Assist producers in States with high priority water quantity concerns, as determined by the Chief. The high priority areas are located in the following regions: Eastern Snake Plain Aquifer, Everglades, Ogallala Aquifer, Puget Sound, Sacramento River Basin, Red River, and Upper Mississippi River Basin.

The Chief may include other factors and criteria which help identify those proposals which best achieve the purposes of AWEP.

Partnership Agreements

Upon selection and approval by the Chief, the agency will enter into a partnership agreement with the partner.

The partnership agreement will not obligate funds, but will address:

(a) Agricultural water enhancement activities anticipated to be addressed and conservation practices to be implemented;

(b) The role of NRCS;

(c) The responsibilities of the partner related to the monitoring and evaluation of project performance;

(d) The frequency and duration of the monitoring and evaluation of project performance;

(e) The content and format of the final project performance report that is required as a condition of the agreement;

(f) The specified project schedule and timeframe; and

(g) Other requirements deemed necessary by NRCS to achieve the purposes of AWEP.

Once the Chief or designee has entered into a partnership agreement, NRCS may enter into contracts directly with eligible agricultural producers participating in the project and located in the approved geographic area. Participating producers must meet all EQIP eligibility requirements (7 CFR 1466.8).

Waiver Authority

To assist in the implementation of agricultural water enhancement activities under the program, the Chief may waive the applicability of the Adjusted Gross Income Limitation, on a case-by-case basis, in accordance with policy and processes promulgated in 7 CFR part 1400. Such waiver requests must be submitted in writing from the program applicant, addressed to the Chief, and submitted through the local NRCS designated conservationist.

Signed March 29, 2010, in Washington, DC.
Dave White,
Vice President, Commodity Credit Corporation and Chief, Natural Resources Conservation Service.

Attachment

State Conservationists

AL—William E. Puckett, 3381 Skyway Drive, P.O. Box 311, Auburn, Alabama 36830, Phone: 334/887-4500, Fax: 334/887-4552, (V) 9027-4557, (E) william.puckett@al.usda.gov.

AK—Robert Jones, 800 West Evergreen, Atrium Building, Suite 100, Palmer, Alaska 99645-6539, Phone: 907/761-7760, Fax: 907/761-7790, (V) 9035-2227, (E) robert.jones@ak.nrcs.usda.gov.

AZ—David L. McKay, 230 North First Avenue, Suite 509, Phoenix, Arizona 85003-1706, Phone: 602/280-8801, Fax: 602/280-8809 or 8805, (V) 9011-8810, (E) david.mckay@az.nrcs.usda.gov.

AR—Michael E. Sullivan, Federal Building, Room 3416, 700 West Capitol Avenue, Little Rock, Arkansas 72201-3228, Phone: 501/301-3100, Fax: 501/301-3194, (V) 9044-3110, (E) michael.sullivan@ar.usda.gov.

CA—Lincoln E. (Ed) Burton, 430 G Street, Suite 4164, Davis, California 95616-4164, Phone: 530/792-5600, Fax: 530/792-5790, (V) 9040-5601, (E) ed.burton@ca.usda.gov.

CO—Allen Green, 655 Parfet Street, Room E200C, Lakewood, Colorado 80215-5521, Phone: 720-544-2810, Fax: 720-544-2965, (V) 9059-2802, (E) allen.green@co.usda.gov.

CT—Douglas Zehner, 344 Merrow Road, Suite A, Tolland, Connecticut 06084, Phone: 860/871-4011, Fax: 860/871-4054, (V) 9013-114, (E) douglas.zehner@ct.usda.gov.

DE—Russell Morgan, 1221 College Park Drive, Suite 100, Dover, Delaware 19904-8713, Phone: 302/678-4160, Fax: 302/678-0843, (V) 9060-199, (E) russell.morgan@de.usda.gov.

FL—Carlos Suarez, 2614 N.W. 43rd Street, Gainesville, Florida 32606-6611 or P.O. Box 141510, Gainesville, FL 32614, Phone: 352/338-9500, Fax: 352/338-9574, (V) 9012-3501, (E) carlos.suarez@fl.usda.gov.

GA—James Tillman, Federal Building, Stop 200, 355 East Hancock Avenue, Athens, Georgia 30601-2769, Phone: 706/546-2272, Fax: 706/546-2120, (V) 9021-2082, (E) james.tillman@ga.usda.gov.

GU—Lawrence T. Yamamoto, Director, Pacific Basin Area, FHB Building, Suite 301, 400 Route 8, Mongmong, Guam 96910, Phone: 671/472-7490, Fax: 671/472-7288, (V) 9000-822-1265, (E) larry.yamamoto@pb.usda.gov.

HI—Lawrence T. Yamamoto, 300 Ala Moana Blvd., Room 4-118, P.O. Box 50004, Honolulu, Hawaii 96850-0002, Phone: 808/541-2600 x107, Fax: 808/541-1335, (V) 9042-108, (E) larry.yamamoto@hi.nrcs.usda.gov.

ID—Jeffrey B. Burwell, 9173 West Barnes Drive, Suite C, Boise, Idaho 83709, Phone: 208/378-5700, Fax: 208/378-5735, (V) 9000-291-4551, (E) jeffrey.burwell@id.usda.gov.

IL—William J. Gradle, 2118 W. Park Court, Champaign, Illinois 61821, Phone: 217/353-6601, Fax: 217/353-6676, (V) 9057-6601, (E) bill.gradle@il.usda.gov.

IN—Jane E. Hardisty, 6013 Lakeside Blvd., Indianapolis, Indiana 46278-2933, Phone: 317/290-3200, Fax: 317/290-3225, (V) 9029-301, (E) jane.hardisty@in.usda.gov.

IA—Richard Sims, 693 Federal Building, 210 Walnut Street, Suite 693, Des Moines, Iowa 50309-2180, Phone: 515/284-6655, Fax: 515/284-4394, (V) 9000-945-1065, (E) richard.sims@ia.usda.gov.

KS—Kasey Taylor, Acting, Eric B. Banks, 760 South Broadway, Salina, Kansas 67401-4642, Phone: 785/823-4565, Fax: 785/452-3369, (V) 9000-345-8770, (E) eric.banks@ks.usda.gov.

KY—Tom Perrin, 771 Corporate Drive, Suite 110, Lexington, Kentucky 40503-5479, Phone: 859/224-7350, Fax: 859/224-7399, (V) 9032-7390, (E) tom.perrin@ky.usda.gov.

LA—Kevin D. Norton, 3737 Government Street, Alexandria, Louisiana 71302, Phone: 318/473-7751, Fax: 318/473-7626, (V) 9000-965-1635, (E) kevin.norton@la.usda.gov.

ME—Juan Hernandez, 967 Illinois Avenue, Suite #3, Bangor, Maine 04401, Phone: 207/990-9100, ext. #3, Fax: 207/990-9599, (V) 9000-757-1028, (E) juan.hermandez@me.usda.gov.

MD—Jon F. Hall, John Hanson Business Center, 339 Busch's Frontage Road, Suite 301, Annapolis, Maryland 21401-5534, Phone: 410/757-0861 x315, Fax: 410/757-0687, (V) 9053-315, (E) jon.hall@md.usda.gov.

MA—Christine Clarke, 451 West Street, Amherst, Massachusetts 01002-2995, Phone: 413/253-4351, Fax: 413/253-4375, (V) 9047-4352, (E) Christine.clarke@ma.usda.gov.

MI—Garry D. Lee, 3001 Coolidge Road, Suite 250, East Lansing, Michigan 48823-6350, Phone: 517/324-5270, Fax: 517/324-5171, (V) 9048-5277, (E) garry.lee@mi.usda.gov.

MN—Jennifer Heglund, Acting, 375 Jackson Street, Suite 600, St. Paul, Minnesota 55101-1854, Phone: 651/602-7900, Fax: 651/602-7913 or 7914, (V) 9041-7854, (E) Jennifer.heglund@mn.usda.gov.

MS—Homer Wilkes, Suite 1321, Federal Building, 100 West Capitol Street, Jackson, Mississippi 39269-1399, Phone: 601/965-5205, Fax: 601/965-4940, (V) 9000-965-2065, (E) homer.wilkes@ms.nrcs.usda.gov.

MO—J.R. Flores, Parkade Center, Suite 250, 601 Business Loop 70 West, Columbia, Missouri 65203-2546, Phone: 573/876-0901, Fax: 573/876-9439, (V) 9034-1367, (E) jr.flores@mo.usda.gov.

MT—Joyce Swartzendruber, Federal Building, Room 443, 10 East Babcock Street, Bozeman, Montana 59715-4704, Phone: 406/587-6813, Fax: 406/587-6761, (V) 9056-6813, (E) joyce.swartzendruber@mt.usda.gov.

NE—Stephen K. Chick, Federal Building, Room 152, 100 Centennial Mall, North, Lincoln, Nebraska 68508-3866, Phone: 402/437-5300, Fax: 402/437-5327, (V) 9026-4103, (E) steve.chick@ne.usda.gov.

NV—Bruce Petersen, 5301 Longley Lane, Building F, Suite 201, Reno, Nevada 89511-1805, Phone: 775/857-8500, Fax: 775/857-8524, (V) 9000-784-1390, (E) bruce.petersen@nv.usda.gov.

NH—George Cleek, Federal Building, 2 Madbury Road, Durham, New Hampshire 03824-2043, Phone: 603/868-7581 ext. 125, Fax: 603/868-5301, (V) 9000-868-8035, (E) george.cleek@nh.usda.gov.

NJ—Thomas Drewes, 220 Davidson Avenue, Somerset, New Jersey 08873, Phone: 732/537-6040, Fax: 732/537-6095, (V) 9000-767-1000, (E) tom.drewes@nj.usda.gov.

NM—Dennis L. Alexander, 6200 Jefferson Street, N.E., Suite 305, Albuquerque, New Mexico 87109-3734, Phone: 505/761-4402 (Rita), Fax: 505/761-4481, (V) 9016-4401, (E) dennis.alexander@nm.usda.gov.

NY—Astor Boozer, 441 South Salina Street, Suite 354, Syracuse, New York 13202-2450, Phone: 315/477-6504, Fax: 315/477-6550, (V) 9015-6501, (E) astor.boozer@ny.usda.gov.

NC—J. B. Martin, Acting, 4405 Bland Road, Suite 205, Raleigh, North Carolina 27609-6293, Phone: 919/873-2102, Fax: 919/873-2156, (V) 9025-2101, (E) JB.martin@nc.usda.gov.

ND—Paul Sweeney, 220 E. Rosser Avenue, Room 278, P.O. Box 1458, Bismarck, North Dakota 58502-1458, Phone: 701/530-2000, Fax: 701/530-2110, (V) 9051-2003, (E) paul.sweeney@nd.usda.gov.

OH—Terry J. Cosby, 200 North High Street, Room 522, Columbus, Ohio 43215-2478, Phone: 614/255-2472, Fax: 614/255-2548, (V) 9000-881-1870, (E) terry.cosby@oh.usda.gov.

OK—Ronald L. Hilliard, 100 USDA, Suite 206, Stillwater, Oklahoma 74074-2655, Phone: 405/742-1204, Fax: 405/742-1126, (V) 9037-1280, (E) ron.hillard@ok.usda.gov.

OR—Ron Alvarado, 101 SW Main Street, Suite 1300, Portland, Oregon 97204-3221, Phone: 503/414-3200, Fax: 503/414-3103, (V) 9019-3201, (E) ron.alvarado@or.usda.gov.

PA—Dave Brown, Acting, 1 Credit Union Place, Suite 340, Harrisburg, Pennsylvania 17110-2993, Phone: 717/237-2203, Fax: 717/237-2238, (V) 9039-2203, (E) dave.brown@pa.usda.gov.

PR—Angel Figueroa, Acting, Director, Caribbean Area, IBM Building, Suite 604, 654 Munoz Rivera Avenue, Hato Rey, Puerto Rico 00918-4123, Phone: 787/766-5206, ext. 237, Fax: 787/766-5987, (V) 9000-769-1030, (E) angel.figueroa@wdc.usda.gov.

RI—Richard “Pooh” Vongkhamdy, 60 Quaker Lane, Suite 46, Warwick, Rhode Island 02886-0111, Phone: 401/828-1300, Fax: 401/828-0433, (V) 9023-115, (E) pooh.vongkhamdy@ri.usda.gov.

SC—Keisha Brown, Acting, Strom Thurmond Federal Building, 1835 Assembly Street, Room 950, Columbia, South Carolina 29201-2489, Phone: 803/253-3935, Fax: 803/253-3670, (V) 9031-3940, (E) Keisha.brown@sc.usda.gov.

SD—Janet L. Oertly, Federal Building, Room 203, 200 Fourth Street, S.W., Huron, South Dakota 57350-2475, Phone: 605/352-1200, Fax: 605/352-1288, (V) 9036-1201, (E) janet.oertly@sd.usda.gov.

TN—Kevin Brown, 675 U.S. Courthouse, 801 Broadway, Nashville, Tennessee 37203-3878, Phone: 615/277-2531, Fax: 615/277-2578, (V) 90 58-2530, (E) kevin.brown@tn.usda.gov.

TX—Donald W. Gohmert, W.R. Poage Federal Building, 10l South Main Street, Temple, Texas 76501-7602, Phone: 254/742-9800, Fax: 254/742-9819, (V) 9038-9803, (E) don.gohmert@tx.usda.gov.

UT—Sylvia A. Gillen, W.F. Bennett Federal Building, 125 South State Street, Room 4402, Salt Lake City, Utah 84111, Phone: 801/524-4555, Fax: 801/524-4403, (V) 9000-625-1550, (E) sylvia.gillen@ut.usda.gov.

VT—Judith M. Doerner, 356 Mountain View Drive, Suite 105, Colchester, Vermont 05446, Phone: 802/951-6795, Fax: 802/951-6327, (V) 9000-768-1240, (E) judy.doener@vt.usda.gov.

VA—Vicky Drew, Acting, Jack Bricker, Culpeper Building, Suite 209, 1606 Santa Rosa Road, Richmond, Virginia 23229-5014, Phone: 804/287-1691, Fax: 804/287-1737, (V) 9003-1682, (E) jack.bricker@va.usda.gov.

WA—Roylene Rides at the Door, Rock Pointe Tower II, W. 316 Boone Avenue, Suite 450, Spokane, Washington 99201-2348, Phone: 509/323-2900, Fax: 509/323-2909, (V) 9035-2901, (E) door@wa.usda.gov.

WV—Kevin Wickey, 75 High Street, Room 301, Morgantown, West Virginia 26505, Phone: 304/284-7540, Fax: 304/284-4839, (V) 9049-7542, (E) kevin.wickey@wv.usda.gov.

WI—Patricia Leavenworth, 8030 Excelsior Drive, Suite 200, Madison, Wisconsin 53717, Phone: 608/662-4422, Fax: 608/662-4430, (V) 9018-222, (E) pat.leavenworth@wi.usda.gov.

WY—J. Xavier Montoya, Federal Building, Room 3124, 100 East B Street, Casper, Wyoming 82601-1911, Phone: 307/233-6750, Fax: 307/233-6753, (V) 9000-951-1015, (E) Xavier.montoya@wy.usda.gov.

[FR Doc. 2010-7515 Filed 4-1-10; 8:45 am]

BILLING CODE 3410-16-P